DEPARTMENT OF THE TREASURY

Agency Information Collection Activities; Submission for OMB Review; Comment Request; Multiple Bureau of Fiscal Service Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before September 2, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Bureau of the Fiscal Service (BFS)

1. Title: Trace Request for Electronic Funds Transfer (EFT) Payment; and Trace Request Direct Deposit.

OMB Number: 1530-0002.

Form Number: FS Form 150.1 and FS Form 150.2.

Abstract: These forms are used to notify the financial organization that a customer (beneficiary) has claimed non-receipt of credit for a payment. The forms are designed to help the financial organization locate any problems and to keep the customer (beneficiary) informed of any action taken.

Current Actions: Extension of a currently approved collection.

Type of Review: Regular.

Affected Public: Business or other for-profit.

Estimated Number of Respondents: 26,895.

Estimated Time per Respondent: 8 minutes.

Estimated Total Annual Burden Hours: 30,466.

2. Title: Voucher for Payment of Awards.

OMB Number: 1530-0012.

Form Number: FS Form 5135.

Abstract: Award certificates to the Department of the Treasury are paid annually as funds are received from foreign governments. Vouchers are mailed to award holders showing payments due. Award holders sign vouchers certifying that he/she is entitled to payment. Executed vouchers are used as a basis for payment.

Current Actions: Extension of a currently approved collection.

Type of Review: Regular.

Affected Public: Individuals and estates with a very small percentage of respondents coming from a business.

Estimated Number of Respondents: 114.

Estimated Time per Respondent: 30 minutes.

Estimated Total Annual Burden Hours: 57.

3. Title: Creditor's Request for Payment of Treasury Securities Belonging To A Decedent's Estate Being Settled Without Administration.

OMB Number: 1530-0027.

Form Number: FS Form 1050.

Abstract: The information is requested to obtain a creditor's consent to dispose of savings bonds/notes in settlement of a deceased owner's estate without administration.

Current Actions: Extension of a currently approved collection.

Type of Review: Regular.

Affected Public: Individuals or Households.

Estimated Number of Respondents: 2200.

Estimated Time per Respondent: 6 minutes.

Estimated Total Annual Burden Hours: 220.

4. Title: Disposition of Treasury Securities Belonging to a Decedent's Estate Being Settled Without Administration.

OMB Number: 1530-0055.

Form Number: FS Form 5336.

Abstract: The information is collected from a voluntary representative of a decedent's estate to support a request for disposition of United States Treasury Securities and/or related payments in the event that the estate is not being administered.

Current Actions: Extension of a currently approved collection.

Type of Review: Regular.

Affected Public: Individuals or Households.

Estimated Number of Respondents: 25,350.

Estimated Time per Respondent: 30 minutes.

Estimated Total Annual Burden Hours: 12,675.

(Authority: 44 U.S.C. 3501 et seq.)

Melody Braswell,
Treasury PRA Clearance Officer.

[FR Doc. 2025-14629 Filed 7-31-25; 8:45 am]

BILLING CODE 4810-AS-P